DEPARTMENT OF DEFENSE

48 CFR Part 237

[DFARS Case 2002-D042]

Defense Federal Acquisition Regulation Supplement; Contractor Performance of Security-Guard Functions

AGENCY: Department of Defense (DoD).

ACTION: Final rule.

SUMMARY: DoD has adopted as final, without change, an interim rule amending the Defense Federal Acquisition Regulation Supplement (DFARS) to implement Section 332 of the National Defense Authorization Act for Fiscal Year 2003. Section 332 provides temporary authority for contractor performance of security-guard functions at military installations or facilities to meet the increased need for such functions since September 11, 2001.

EFFECTIVE DATE: August 21, 2003.

FOR FURTHER INFORMATION CONTACT: Ms. Teresa Brooks, Defense Acquisition Regulations Council, OUSD(AT&L)DPAP(DAR), IMD 3C132, 3062 Defense Pentagon, Washington, DC 20301-3062. Telephone (703) 602-0326; facsimile (703) 602-0350. Please cite DFARS Case 2002-D042.

SUPPLEMENTARY INFORMATION:

A. Background

DoD published an interim rule at 68 FR 7443 on February 14, 2003, to implement Section 332 of the National Defense Authorization Act for Fiscal Year 2003 (Public Law 107-314). Section 332 authorizes DoD to waive the prohibition at 10 U.S.C. 2465(a), to permit contractor performance of security-guard functions at military installations or facilities to meet the increased need for such functions since September 11, 2001.

Three respondents submitted comments on the interim rule. Two of the respondents expressed their support for the rule. A third respondent stated that a contracting officer's representative (COR) may be appointed to an installation's Provost Marshal or Security Office and questioned whether the rule should specify that contracting offices must ensure that CORs are duly trained. DoD believes that training of CORs is already adequately addressed in DFARS 201.602-2(2), which states that a COR must be “qualified by training and experience commensurate with the responsibilities to be delegated in accordance with department/agency guidelines.” Therefore, DoD believes that no change to the rule is needed, and has adopted the interim rule as a final rule.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule applies only to security-guard functions in excess of those being performed on military installations or facilities as of September 10, 2001. While the rule is expected to result in additional opportunities for small business concerns to perform security-guard functions, the overall impact is not expected to be substantial.

C. Paperwork Reduction Act

The Paperwork Reduction Act does not apply because the rule does not impose any information collection requirements that require the approval of the Office of Management and Budget under 44 U.S.C. 3501, et seq.

List of Subjects in 48 CFR Part 237

Government procurement.

Michele P. Peterson,
Executive Editor, Defense Acquisition Regulations Council.

Interim Rule Adopted as Final Without Change

Accordingly, the interim rule amending 48 CFR part 237, which was published at 68 FR 7443 on February 14, 2003, is adopted as a final rule without change.

[FR Doc. 03-21310 Filed 8-20-03; 8:45 am]

BILLING CODE 5001-08-P